DEPARTMENT OF ENERGY

Addendum to Environmental Review Documents Concerning Exports of Natural Gas From the United States

Freeport LNG Expansion, L.P. and FLNG Liquefaction, LLC | [DOE/EIS-0487]
Cameron LNG, LLC | [DOE/EIS-0488]
Jordan Cove Energy Project, L.P | [DOE/EIS-0489]
Lake Charles Exports, LLC and Trunkline LNG Export, LLC | [DOE/EIS-0491]
LNG Development Company, LLC (d/b/a Oregon LNG) | [DOE/EIS-0492]
Cheniere Marketing, LLC | [DOE/EIS-0493]
Excelerate Liquefaction Solutions I, LLC | [DOE/EIS-0494]
CE FLNG, LLC | [DOE/EIS-0497]
Magnolia LNG, LLC | [DOE/EIS-0498]
Dominion Cove Point LNG, LP | [DOE/EA-1942]
Southern LNG Company, L.L.C | [DOE/EA-1963]
Golden Pass Products LLC | [DOE/EA-1971]
Sabine Pass Liquefaction, LLC | [DOE/EA-1983]

AGENCY: Office of Fossil Energy, Department of Energy.

ACTION: Notice of Availability of Addendum to Environmental Review Documents Concerning Exports of Natural Gas from the United States.

SUMMARY: The Office of Fossil Energy (FE) of the Department of Energy (DOE) announces the availability of the Addendum to Environmental Review Documents Concerning Exports of Natural Gas From the United States (Addendum).

FOR FURTHER INFORMATION CONTACT: John Anderson, U.S. Department of Energy (FE-34), Office of Natural Gas Regulatory Activities, Office of Fossil Energy, Forrestal Building, Room 3E-042, 1000 Independence Avenue SW., Washington, DC 20585; Edward LeDuc, U.S. Department of Energy (GC-51), Office of the Assistant General Counsel for Environment, Forrestal Building, 1000 Independence Avenue SW., Washington, DC 20585.

ADDRESSES: The Addendum and other relevant documents are available for download at http://www.energy.gov/fe/services/natural-gas-regulation, and for inspection and copying in the Division of Natural Gas Regulatory Activities docket room, Room 3E-042, 1000 Independence Avenue SW., Washington, DC 20585. The docket room is open between the hours of 8:00 a.m. and 4:30 p.m., Monday through Friday, except Federal holidays.

SUPPLEMENTARY INFORMATION: The purpose of this Addendum is to provide additional information to the public regarding the potential environmental impacts of unconventional natural gas exploration and production activities. DOE has received many comments in related proceedings expressing concerns about the potential impacts from increased development of unconventional natural gas resources in the United States, particularly production that involves hydraulic fracturing. While not required by the National Environmental Policy Act (NEPA), DOE has prepared this Addendum in an effort to be responsive to the public and provide the best information available.

On June 4, 2014, DOE published a Federal Register notice (79 FR 32258) announcing the availability of the draft Addendum for public review and comment. The comment period closed on July 21, 2014. DOE received 18 comment submittals, comprised of a total of 40,754 individual comments. DOE considered all the comments and prepared the final Addendum. In an effort to assist readers DOE used bold text and vertical lines in the margin to indicate where the draft Addendum has been revised or supplemented. A summary of the public comments and DOE's responses is included in the final Addendum.

Issued in Washington, DC, on August 11, 2014.
Christopher A. Smith,
Principal Deputy Assistant Secretary, Office of Fossil Energy.

[FR Doc. 2014-19368 Filed 8-14-14; 8:45 am]

BILLING CODE 6450-01-P